DEPARTMENT OF COMMERCE

Foreign-Trade Zones Board

[B-59-2015]

Foreign-Trade Zone (FTZ) 29—Louisville, Kentucky; Notification of Proposed Production Activity; Custom Quality Services (Liquor Kitting); Louisville, Kentucky

Custom Quality Services submitted a notification of proposed production activity to the FTZ Board for its facility in Louisville, Kentucky within FTZ 29. The notification conforming to the requirements of the regulations of the FTZ Board (15 CFR 400.22) was received on September 2, 2015.

The Custom Quality Services facility is located within Site 1 of FTZ 29. The facility is used for the warehousing, distribution and kitting of liquor and glassware. Pursuant to 15 CFR 400.14(b), FTZ activity would be limited to the specific foreign-status materials and components and specific finished products described in the submitted notification (as described below) and subsequently authorized by the FTZ Board.

Production under FTZ procedures could exempt Custom Quality Services from customs duty payments on the foreign status components used in export production. On its domestic sales, Custom Quality Services would be able to choose the duty rates during customs entry procedures that apply to: Whiskey liquor kits; vodka kits; tequila kits; and, wine kits (duty rate ranges from duty-free to 6.3¢/liter) for the foreign status inputs noted below. Customs duties also could possibly be deferred or reduced on foreign status production equipment.

The components and materials sourced from abroad include: Whiskey, bourbon; tequila; wine; whiskey and cola; vodka; liqueur; specialty-tempered glassware; cut or engraved glassware; lead crystal glasses; non-lead crystal glasses; and, drinking glasses (duty rate ranges from duty-free to 28.5%).

Public comment is invited from interested parties. Submissions shall be addressed to the Board's Executive Secretary at the address below. The closing period for their receipt is October 26, 2015.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: September 4, 2015.
Andrew McGilvray,
Executive Secretary.

[FR Doc. 2015-23078 Filed 9-11-15; 8:45 am]

BILLING CODE 3510-DS-P